DEPARTMENT OF THE INTERIOR

Bureau of Land Management

[LLES962000 L14400000 BJ0000 18X]

Notice of Filing of Plat Survey; Eastern States

AGENCY: Bureau of Land Management, Interior

ACTION: Notice of Official Filing.

SUMMARY: The plats of survey of the following described lands are scheduled to be officially filed in the Bureau of land Management (BLM), Eastern States Office, Washington, DC, 30 days from the date of this publication. The surveys, executed at the request of the identified agencies is required for the management of these lands.

DATES: Unless there are protests of this action, the filing of the plat described in this notice will happen on July 18, 2019.

ADDRESSES: Written notices protesting any of these surveys must be sent to the State Director, BLM Eastern States, Suite 950, 20 M Street SE, Washington, DC 20003.

FOR FURTHER INFORMATION CONTACT: Janet Wilkins, Acting Chief Cadastral Surveyor for Eastern States; (202) 912-7756; email: J1wilkin@blm.gov; or U.S. Postal Service: BLM-ES, 20 M Street SE, Washington, DC 20003. Attn: Cadastral Survey. Persons who use a telecommunications device for the deaf may call the Federal Information Relay Service (FIRS) at 1-800-877-8339 to contact the above individual during normal business hours. The service is available 24 hours a day, 7 days a week, to leave a message or question with the above individual. You will receive a reply during normal business hours.

SUPPLEMENTARY INFORMATION: The supplemental plat of section 29, Township 50 North, Range 18 West, Fourth Principal Meridian, Minnesota; portrays the amended lotting of Lot 4 and the removal of lot 5 as designated on the plat approved August 5, 1981. Survey requested by the Bureau of Indian Affairs and BLM.

The dependent resurvey of a portion of the West Boundary of Tract 2001, the North boundary of Tract 2223 and the North and West boundaries of Tract 2224 of the Edwin B. Forsythe National Wildlife Refuge in Brick Township, Ocean County in the State of New Jersey. Survey requested by the U.S. Fish and Wildlife Service.

The dependent resurvey of tract 7009 of the Edwin B. Forsythe National Wildlife Refuge Galloway Township, Atlantic County, in the State of New Jersey. Survey requested by the U.S. Fish and Wildlife Service.

A person or party who wishes to protest a survey must file a written notice of protest within 30 calendar days from the date of this publication at the address list in the ADDRESSES section of this notice. A statement of reasons for the protest may be filed with the notice of protest and must be filed within 30 calendar days after the protest is filed. If a protest against the survey is received prior to the date of official filing, the filing will be stayed pending consideration of the protest. A plat will not be officially filed until the day after all protests have been dismissed or otherwise resolved.

Before including your address, phone number, email address, or other personal identifying information in your comment, please be aware that your entire protest, including your personal identifying information may be made publicly available at any time. While you can ask us in your comment to withhold your personal identifying information from public review, we cannot guarantee that we will be able to do so.

A copy of the described plats will be placed in the open files, and available to the public as a matter of information.

Authority: 43 U.S.C. Chap. 3.

Janet M. Wilkins,
Acting Chief Cadastral Surveyor.

[FR Doc. 2019-12891 Filed 6-17-19; 8:45 am]

BILLING CODE 4310-GJ-P